DEPARTMENT OF TRANSPORTATION

Federal Aviation Administration

14 CFR Part 97

[Docket No. 30217; Amdt. No. 2024]

Standard Instrument Approach Procedures; Miscellaneous Amendments

AGENCY: Federal Aviation Administration (FAA), DOT.

ACTION: Final rule.

SUMMARY: This amendment establishes, amends, suspends, or revokes Standard Instrument Approach Procedures (SIAP's) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is unspecified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional; Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAP's, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes SIAP's. The complete regulatory description of each SIAP is contained in official FAA form documents which are incorporated by reference in this amendment under 5 U.S.C. 552(a), 1 CFR part 51, and § 14 CFR 97.20 of the Federal Aviation Regulations (FAR). The applicable FAA Forms are identified as FAA Form 8260-5. Materials incorporated by reference are available for examination or purchase as stated above.

The large number of SIAP's, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment states the affected CFR sections, with the types and effective dates of the SIAPs. This amendment also identifies the airport, its location, the procedure identification and the amendment number.

The Rule

This amendment to part 97 is effective upon publication of each separate SIAP as contained in the transmittal. The SIAP's contained in this amendment are based on the criteria contained in the United States Standard for Terminal Instrument procedures (TERPS). In developing these SIAPs, the TERPS criteria were applied to the conditions existing or anticipated at the affected airports.

The FAA has determined through testing that current non-localizer type, non-precision instrument approaches developed using the TERPS criteria can be flown by aircraft equipped with a Global Positioning System (GPS) and or Flight Management System (FMS) equipment. In consideration of the above, the applicable SIAP's will be altered to include “or GPS or FMS” in the title without otherwise reviewing or modifying the procedure. (Once a stand alone GPS or FMS procedure is developed, the procedure title will be altered to remove “or GPS or FMS” from these non-localizer, non-precision instrument approach procedure titles.)

The FAA has determined through extensive analysis that current SIAP's intended for use by Area Navigation (RNAV) equipped aircraft can be flown by aircraft utilizing various other types of navigational equipment. In consideration of the above, those SIAP's currently designated as “RNAV” will be redesignated as “VOR/DME RNAV” without otherwise reviewing or modifying the SIAP's.

Because of the close and immediate relationship between these SIAP's and safety in air commerce, I find that notice and public procedure before adopting these SIAP's are, impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Dated: Issued in Washington, DC on November 24, 2000.
L. Nicholas Lacey,
Director, Flight Standards Service.

Adoption of the Amendment

Accordingly, pursuant to the authority delegated to me, part 97 of the Federal Aviation Regulations (14 CFR part 97) is amended as follows:

PART 97—STANDARD INSTRUMENT APPROACH PROCEDURES

1. The authority citation for part 97 continues to read:

Authority: 49 U.S.C. 106(g), 40103, 40106, 40113-40114, 40120, 44502, 44514, 44701, 44719, 44721-44722.

§§ 97.23, 97.27, 97.33, 97.35 [Amended]

2. Amend 97.23, 97.27, 97.33 and 97.35, as appropriate, by adding, revising, or removing the following SIAP's, effective at 0901 UTC on the dates specified:

Effective January 25, 2001

Bastrop, LA, Bastrop/Morehouse Memorial, VOR/DME or GPS-A, Amdt 8, Cancelled

Bastrop, LA, Bastrop/Morehouse Memorial, VOR/DME-A, Amdt 8

Covington, LA, Covington/Greater St. Tammany, VOR/DME or GPS-A, Orig, Cancelled

Covington, LA, Covington/Greater St. Tammany, VOR/DME-A, Orig

Eunice, LA, Eunice, VOR/DME or GPS-A, Amdt 2, Cancelled

Eunice, LA, Eunice, VOR/DME-a, Amdt 2

Lake Charles, LA, Lake Charles Regional, VOR or GPS-A, Amdt 13, Cancelled

Lake Charles, LA, Lake Charles Regional, VOR-A, Amdt 13

Marksville, LA, Marksville Muni, VOR/DME or GPS-A, Amdt 3A, Cancelled

Marksville, LA, Marksville Muni, VOR/DME-A, Amdt 3A

Minden, LA, Minden-Webster, VOR/DME or GPS-A, Amdt 4A, Cancelled

Minden, LA, Minden-Webster, VOR/DME-A, Amdt 4A

New Roads, LA, New Roads/False River Airpark, VOR/DME or GPS-A, Amdt 3A, Cancelled

New Roads, LA, New Roads/False River Airpark, VOR/DME-A, Amdt 3A

Rayville, LA, Rayville/John H. Hooks Jr. Memorial, VOR/DME or GPS-A, Amdt 2, Cancelled

Rayville, LA, Rayville/John H. Hooks Jr. Memorial, VOR/DME-A, Amdt 2

Sulphur, LA, Sulphur/Southland Field, VOR/DME or GPS-A, Amdt 1, Cancelled

Sulphur, LA, Sulphur/Southland Field, VOR/DME-A, Amdt 1

Belen, NM, Belen/Alexander Muni, VOR/DME or GPS-A, Amdt 1, Cancelled

Belen, NM, Belen/Alexander Muni, VOR/DME-A, Amdt 1

Santa Fe, NM, Santa Fe Muni, VOR/DME or GPS-A, Amdt 1, Cancelled

Santa Fe, NM, Santa Fe Muni, VOR/DME-A, Amdt 1

Silver City, NM, Silver City/Grant County, VOR or GPS-A, Amdt 7A, Cancelled

Silver City, NM, Silver City/Grant County, VOR-A, Amdt 7A

Silver City, NM, Silver City/Grant County, VOR/DME or GPS-B, Amdt 3A, Cancelled

Silver City, NM, Silver City/Grant County, VOR/DME-B, Amdt 3A

Socorro, NM, Socorro Muni, VOR/DME or GPS-A, Orig-A, Cancelled

Socorro, NM, Socorro Muni, VOR/DME-A, Orig-A

Taos, NM, VOR/DME or GPS-B, Amdt 2B, Cancelled

Taos, NM, VOR/DME-B, Amdt 2B

Truth or Consequences, NM, Truth or Consequences Muni, VOR or GPS-A, Amdt 9A, Cancelled

Truth or Consequences, NM, Truth or Consequences Muni, VOR-A, Amdt 9A

Ada, OK, Ada Muni, VOR/DME or GPS-A, Orig-B, Cancelled

Ada, OK, Ada Muni, VOR/DME-A, Orig-B

Altus, OK, Altus Muni, VOR or GPS-A, Amdt 4, Cancelled

Altus, OK, Altus Muni, VOR-A, Amdt 4

Blackwell, OK, Blackwell-Tonkawa Muni, VOR or GPS-A, Amdt 3, Cancelled

Blackwell, OK, Blackwell-Tonkawa Muni, VOR-A, Amdt 3

Boise City, OK, Boise City, NDB or GPS-A, Amdt 1A, Cancelled

Boise City, OK, Boise City, NDB-A, Amdt 1A

Boise City, OK, Boise City, NDB-A, Amdt 1A

Buffalo, OK, Buffalo Muni, NDB or GPS-A, Amdt 1, Cancelled

Buffalo, OK, Buffalo Muni, NDB-A, Amdt 1

Chickasha, OK, Chickasha Muni, VOR/DME or GPS-A, Orig, Cancelled

Chickasha, OK, Chickasha Muni, VOR/DME-A, Orig

Claremore, OK, Claremore Regional, VOR/DME or GPS-A, Orig, Cancelled

Claremore, OK, Claremore Regional, VOR/DME-A, Orig

Claremore, OK, Claremore Regional, VOR/DME or GPS-B, Amdt 1, Cancelled

Claremore, OK, Claremore Regional, VOR/DME-B, Amdt 1

Madill, OK, Madill Muni, VOR/DME or GPS-A, Amdt 3, Cancelled

Madill, OK, Madill Muni, VOR/DME-A, Amdt 3

Oklahoma City, OK, Oklahoma City/Clarence E. Page Muni, VOR or GPS-B, Amdt 2, Cancelled

Oklahoma City, OK, Oklahoma City/Clarence E. Page Muni, VOR-B, Amdt 2

Oklahoma City, OK, Oklahoma City/Wiley Post, VOR or GPS-A, Amdt 2, Cancelled

Oklahoma City, OK, Oklahoma City/Wiley Post, VOR-A, Amdt 2

Okmulgee, OK, Okmulgee Muni, VOR or GPS-A, Orig, Cancelled

Okmulgee, OK, Okmulgee Muni, VOR-A, Orig

Sallisaw, OK, Sallisaw Muni, NDB or GPS-A, Amdt 1, Cancelled

Sallisaw, OK, Sallisaw Muni, NDB-A, Amdt 1

Sand Springs, OK, Sand Springs/William R. Pogue Muni, VOR or GPS-A, Amdt 1A, Cancelled

Sand Springs, OK, Sand Springs/William R. Pogue Muni, VOR-A, Amdt 1A

Tulsa, OK, Tulsa/Richard Lloyd Jones Jr., VOR/DME or GPS-A, Amdt 6, Cancelled

Tulsa, OK, Tulsa/Richard Lloyd Jones Jr., VOR/DME-A, Amdt 6

Watonga, OK, Watonga, VOR/DME or GPS-A, Amdt 2, Cancelled

Watonga, OK, Watonga, VOR/DME-A, Amdt 2

Woodward, OK, Woodward/West Woodward, VOR/DME or GPS-A, Amdt 6, Cancelled

Woodward, OK, Woodward/West Woodward, VOR/DME-A, Amdt 6

Abilene, TX, Abilene Regional, VOR or GPS-A, Amdt 8, Cancelled

Abilene, TX, Abilene Regional, VOR-A, Amdt 8A

Amarillo, TX, Amarillo/Tradewind, NDB or GPS-A, Amdt 14, Cancelled

Amarillo, TX, Amarillo/Tradewind, NDB-A, Amdt 14

Bay City, TX, Bay City Muni, VOR/DME or GPS-A, Amdt 4A, Cancelled

Bay City, TX, Bay City Muni, VOR/DME-A, Amdt 4A

Beaumont, TX, Beaumont Muni, VOR/DME or GPS RWY 13, Amdt 2, Cancelled

Beaumont, TX, Beaumont Muni, VOR/DME RWY 13, Amdt 2

Breckenridge, TX, Breckenridge/Stephens County, NDB or GPS-A, Amdt 1A, Cancelled

Breckenridge, TX, Breckenridge/Stephens County, NDB-A, Amdt 1A

Cleveland, TX, Cleveland Muni, VOR or GPS-A, Amdt 4, Cancelled

Cleveland, TX, Cleveland Muni, VOR-A, Amdt 4

Del Rio, TX, Del Rio Intl, VOR/DME or GPS-B, Amdt 4, Cancelled

Del Rio, TX, Del Rio Intl, VOR/DME-B, Amdt 4

Del Rio, TX, Del Rio Intl, VOR or GPS-A, Amdt 11, Cancelled

Del Rio, TX, Del Rio Intl, VOR-A, Amdt 11

Dumas, TX, Dumas/Moore County, VOR/DME or GPS-A, Amdt 6, Cancelled

Dumas, TX, Dumas/Moore County, VOR/DME-A, Amdt 6

Fort Stockton, TX, Fort Stockton-Pecos County, VOR/DME or GPS-A, Amdt 5A, Cancelled

Fort Stockton, TX, Fort Stockton-Pecos County, VOR/DME-A, Amdt 5A

George West, TX, George West/Live Oak County, VOR/DME or GPS-A, Amdt 1, Cancelled

George West, TX, George West/Live Oak County, VOR/DME-A, Amdt 1

Giddings, TX, Giddings-Lee County, VOR/DME or GPS-A, Amdt 3, Cancelled

Giddings, TX, Giddings-Lee County, VOR/DME-A, Amdt 3

Henderson, TX, Henderson/Rusk County, VOR/DME or GPS-A, Amdt 3A, Cancelled

Henderson, TX, Henderson/Rusk County, VOR/DME-A, Amdt 3A

Liberty, TX, Liberty Muni, VOR or GPS-A, Amdt 5, Cancelled

Liberty, TX, Liberty Muni, VOR-A, Amdt 5

Llano, TX, Llano Muni, VOR or GPS-A, Amdt 3, Cancelled

Llano, TX, Llano Muni, VOR-A, Amdt 3

Lubbock, TX, Lubbock Intl, VOR or GPS-A, Amdt 6, Cancelled

Lubbock, TX, Lubbock Intl, VOR-A, Amdt 6

McKinney, TX, McKinney Muni, VOR/DME or GPS-A, Orig-B, Cancelled

McKinney, TX, McKinney Muni, VOR/DME-A, Orig-B

Mexia, TX, Mexia-Limestone County, NDB or GPS-A, Amdt 3, Cancelled

Mexia, TX, Mexia-Limestone County, NDB-A, Amdt 3

Pampa, TX, Pampa/Perry Lefors Field, VOR/DME or GPS-A, Amdt 2, Cancelled

Pampa, TX, Pampa/Perry Lefors Field, VOR/DME-A, Amdt 2

Pleasanton, TX, Pleasanton Muni, NDB or GPS-A, Amdt 5A, Cancelled

Pleasanton, TX, Pleasanton Muni, NDB-A, Amdt 5A

Port Isabel, TX, Port Isabel-Cameron County, VOR/DME or GPS-B, Amdt 2A, Cancelled

Port Isabel, TX, Port Isabel-Cameron County, VOR/DME-B, Amdt 2A

Port Isabel, TX, Port Isabel-Cameron County, VOR or GPS-A, Amdt 5A, Cancelled

Port Isabel, TX, Port Isabel-Cameron County, VOR-A, Amdt 5A

San Antonio, TX, San Antonio Intl, VOR or GPS-A, Amdt 5, Cancelled

San Antonio, TX, San Antonio Intl, VOR-A, Amdt 5

Sulphur Springs, TX, Sulphur Springs Muni, VOR/DME or GPS-B, Amdt 6, Cancelled

Sulphur Springs, TX, Sulphur Springs Muni, VOR/DME-B, Amdt 6

Sulphur Springs, TX, Sulphur Springs Muni, VOR or GPS-A, Amdt 4, Cancelled

Sulphur Springs, TX, Sulphur Springs Muni, VOR-A, Amdt 4

[FR Doc. 00-30525 Filed 11-29-00; 8:45 am]

BILLING CODE 4910-13-M